DEPARTMENT OF THE INTERIOR

National Park Service

[N6397; NPS-WASO-NAGPRA-NPS0040769; PPWOCRADN0-PCU00RP14.R50000]

Notice of Inventory Completion: University of Oregon Museum of Natural and Cultural History, Eugene, OR

AGENCY: National Park Service, Interior.

ACTION: Notice.

SUMMARY: In accordance with the Native American Graves Protection and Repatriation Act (NAGPRA), the University of Oregon Museum of Natural and Cultural History has completed an inventory of human remains and associated funerary objects and has determined that there is a cultural affiliation between the human remains and associated funerary objects and Indian Tribes or Native Hawaiian organizations in this notice.

DATES: Repatriation of the human remains and associated funerary objects in this notice may occur on or after September 4, 2025.

ADDRESSES: Send written requests for repatriation of the human remains and associated funerary objects in this notice to Dr. Pamela Endzweig, Director of Anthropological Collections, University of Oregon Museum of Natural and Cultural History, 1224 University of Oregon, Eugene, OR 97403-1224, email endzweig@uoregon.edu.

SUPPLEMENTARY INFORMATION: This notice is published as part of the National Park Service's administrative responsibilities under NAGPRA. The determinations in this notice are the sole responsibility of the University of Oregon Museum of Natural and Cultural History, and additional information on the determinations in this notice, including the results of consultation, can be found in its inventory or related records. The National Park Service is not responsible for the determinations in this notice.

Abstract of Information Available

Human remains representing, at least, one individual have been identified. The 13 associated funerary objects are one worked stone, one stone tool, nine dentalia, one lot of sagebrush twine, and one lot of worked sagebrush bark. The fragmentary human remains (catalogued as 11-50, Accession 100AT) are from a female adult, estimated to have been 30-35 years of age. The human remains and associated funerary objects were transferred to the Museum by a private individual in 1936. No information concerning direct association or provenience was found, but “Fort Rock Cave?” was written on the accessions record at a later date. This is consistent with the donor's known collecting area. According to the accessions records, the artifacts were most likely recovered in association with the burial. Fort Rock Cave is in the historic territory of Northern Paiute peoples.

Human remains representing, at least, two individuals have been identified. There are no associated funerary objects present. The human remains (catalogued as 11-308, Accession 136) are from two adults, one male estimated to have been 20-35 years of age and one female of unknown age. The human remains were removed by a private individual from the Fort Rock area of Lake County, Oregon, in 1948, and transferred to the Museum in 1953. According to Museum records, the remains were removed from “Fort Rock 5 miles east of Fort Rock village on Lake Road, then 1 mile south . . .” The human remains were noted as being exposed at the site. The Fort Rock area is in the historic territory of Northern Paiute peoples.

Human remains representing, at least, one individual have been identified. There are no associated funerary objects present. The human remains (catalogued as 11-317, Accession 222) are from an adult female estimated to have been 30-45 years of age. The human remains were removed in 1959 from the Fort Rock Valley of Lake County, Oregon, by a private individual, and accessioned by the Museum in 1961. There is no other information about this burial. The Fort Rock area is in the historic territory of Northern Paiute peoples.

Human remains representing, at least, one individual have been identified. There are no associated funerary objects present. The human remains (catalogued as 11-413, Accession 232) are from an adult male estimated to have been 25-45 years of age. The human remains were removed from the Fort Rock Valley of Lake County, Oregon, and transferred to the Museum in 1961 by a private individual. According to Museum's accessions records, the human remains were taken from “a looter's spoil dirt.” There are no associated artifacts. The exact location of the burial is uncertain, but believed to be from Township 26 South, Range 16 East, Section 33. The Fort Rock area is in the historic territory of Northern Paiute peoples.

Cultural Affiliation

Based on the information available and the results of consultation, cultural affiliation is reasonably identified by the geographical location or acquisition history of the human remains and associated funerary objects described in this notice.

Determinations

The University of Oregon Museum of Natural and Cultural History has determined that:

• The human remains described in this notice represent the physical remains of five individuals of Native American ancestry.

• The 13 objects described in this notice are reasonably believed to have been placed intentionally with or near individual human remains at the time of death or later as part of the death rite or ceremony.

• There is a connection between the human remains and associated funerary objects described in this notice and the Burns Paiute Tribe; Confederated Tribes of the Warm Springs Reservation of Oregon; and the Klamath Tribes.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 4, 2025. If competing requests for repatriation are received, the University of Oregon Museum of Natural and Cultural History must determine the most appropriate requestor prior to repatriation. Requests for joint repatriation of the human remains and associated funerary objects are considered a single request and not competing requests. The University of Oregon Museum of Natural and Cultural History is responsible for sending a copy of this notice to the Indian Tribes and Native Hawaiian organizations identified in this notice.

Authority: Native American Graves Protection and Repatriation Act, 25 U.S.C. 3003, and the implementing regulations, 43 CFR 10.10.

Dated: July 28, 2025.
Melanie O'Brien,
Manager, National NAGPRA Program.

[FR Doc. 2025-14797 Filed 8-4-25; 8:45 am]

BILLING CODE 4312-52-P